DEPARTMENT OF HEALTH AND HUMAN SERVICES

National Institutes of Health

Notice of Meeting: Secretary's Advisory Committee on Genetics, Health, and Society

Pursuant to Public Law 92-463, notice is hereby given of the ninth meeting of the Secretary's Advisory Committee on Genetics, Health, and Society (SACGHS), U.S. Public Health Service. The meeting will be held from 9 a.m. to 5 p.m. on March 27, 2006 and 9 a.m. to 5 p.m. on March 28, 2006 at the National Institutes of Health, Building 31, C Wing, Conference Room 6, 31 Center Drive, Bethesda, MD 20892. The meeting will be open to the public with attendance limited to space available. The meeting will be webcast.

The first day of the meeting will include sessions on pharmacogenomics and large population studies of genetic variation, the environment and common disease. The pharmacogenomics session will include a review of Federal efforts in pharmacogenomics and deliberation on draft recommendations in this area. The large population studies session will involve discussion of a draft report that identifies policy issues associated with mounting a large population study in the United States.

The second day will be devoted to sessions on genetic discrimination and patents and licensing issues. The genetic discrimination session will include an update on the status of Federal genetic non-discrimination legislation. The patents and licensing session will involve a presentation on the findings and conclusions of a National Academy of Sciences report on intellectual property rights in genomic research and innovation, and a discussion of whether there are other issues in this area that warrant SACGHS's further attention.

Time will be provided each day for public comments. The Committee would welcome hearing from anyone wishing to provide public comment on any issue related to genetics, health and society. Individuals who would like to provide public comment or who plan to attend the meeting and need special assistance, such as sign language interpretation or other reasonable accommodation, should notify the SACGHS Executive Secretary, Ms. Sarah Carr, by telephone at 301-496-9838 or e-mail at sc112c@nih.gov. The SACGHS office is located at 6705 Rockledge Drive, Suite 750, Bethesda, MD 20892.

Under authority of 42 U.S.C. 217a, Section 222 of the Public Health Service Act, as amended, the Department of Health and Human Services established SACGHS to serve as a public forum for deliberations on the broad range of human health and societal issues raised by the development and use of genetic technologies and, as warranted, to provide advice on these issues. The draft meeting agenda and other information about SACGHS, including information about access to the webcast will be available at the following Web site: http://www4.od.nih.gov/oba/sacghs.htm.

Dated: January 26, 2006.
Anna Snouffer,
Acting Director, Office of Federal Advisory Committee Policy.

[FR Doc. 06-978 Filed 2-1-06; 8:45 am]

BILLING CODE 4140-01-M